FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (www.fmc.gov) or by contacting the Office of Agreements at (202) 523-5793 or tradeanalysis@fmc.gov.

Agreement No.: 011966-002.

Title: West Coast USA-Mexico & Canada Vessel Sharing Agreement.

Parties: Compania Sud Americana de Vapores S.A.; Hamburg Süd; and Compania Chilena de Navegacion Interoceania, S.A.

Filing Party: Wayne R. Rohde, Esq.; Sher & Blackwell LLP; 1850 M Street, NW.; Suite 900; Washington, DC 20036.

Synopsis: The amendment would add Guatemala, Panama and the Caribbean Coast of Colombia to the geographic scope of the Agreement, increase the number of vessels used under the agreement, and revise the space allocations of the parties. Parties request expedited review.

By Order of the Federal Maritime Commission.
Dated: February 2, 2010.
Karen V. Gregory,
Secretary.

[FR Doc. 2010-2566 Filed 2-4-10; 8:45 am]

BILLING CODE P